DEPARTMENT OF HEALTH AND HUMAN SERVICES

Centers for Disease Control and Prevention

Vessel Sanitation Program Operations Manual—2000

AGENCY: Centers for Disease Control and Prevention (CDC), Department of Health and Human Services (HHS).

ACTION: Notice.

SUMMARY: This notice announces the revision and implementation of the Vessel Sanitation Program Operations Manual—2000.

EFFECTIVE DATE: The revised Operations Manual will become effective on November 1, 2000.

FOR FURTHER INFORMATION CONTACT: David Forney, Chief, Vessel Sanitation Program, Division of Emergency and Environmental Health Services (EEHS), National Center for Environmental Health (NCEH), Mailstop F-16, Centers for Disease Control and Prevention (CDC), Atlanta, Georgia 30333, telephone (770) 488-7333, e-mail: DForney@cdc.gov.

SUPPLEMENTARY INFORMATION:

Purpose and Background

The Vessel Sanitation Program (VSP) is a cooperative activity between the cruise ship industry and the Centers for Disease Control and Prevention (CDC), U.S. Department of Health and Human Services. The purpose and goals of VSP are to achieve and maintain a level of sanitation that will lower the risk for gastrointestinal disease outbreaks and assist the passenger cruise line industry in its effort to provide a healthy environment for passengers and crew.

Comments

CDC announced their intention to revise the Vessel Sanitation Operations Manual, August 1989 in the Federal Register, Volume 62, Thursday, August 23, 1997, page 44475. A subsequent request to solicit topic-specific information for incorporation into a revised operations manual was published in the Federal Register on July 9, 1998 (63 FR 37128). Input and public comments were requested and received from the cruise ship industry, private sanitation consultants, other Federal agencies, and other interested parties and were discussed in detail at a public meeting held in Fort Lauderdale, Florida, on April 14-16, 1999.

Based on comments received, VSP staff redrafted the manual and that revised draft was discussed at a public meeting held in Fort Lauderdale, Florida, on October 5-7, 1999. The current document incorporates the input and comments received from the cruise ship industry, private sanitation consultants, and other interested parties who attended both public meetings, and who submitted comments in writing.

The final draft of the VSP Operations Manual—2000 was also presented to attendees at the VSP annual public meeting held in Ft. Lauderdale, Florida, on March 28, 2000. Major input to this document was also provided by the International Council of Cruise Lines, which represents the 17 largest passenger cruise lines that call on major ports in the United States and abroad.

Implementation and Transition for the VSP Operations Manual—2000

The VSP Operations Manual—2000 will become effective on November 1, 2000. At that time, VSP environmental health officers will begin using the new manual and inspection report when they conduct their routine operational inspections.

For a period of one year, or two routine inspections, whichever comes first, VSP staff will document all deficiencies not in compliance with the 2000 manual; however, points will not be deducted for those new and more stringent provisions contained in the 2000 manual that were not in the 1989 manual. During the phase-in period, these deficiencies will only be “starred” so corrective actions can be made accordingly. For example, the new cold holding temperature for potentially hazardous foods is 5°C (41°F) and the old temperature is 7.5°C (45°F). Food found to be labeled between these temperatures during the first year, or two routine inspections, will be documented and “starred” on the inspection report without points being deducted.

Applicability

The VSP Operations Manual—2000 will be applicable to all passenger cruise vessels with international itineraries calling on U.S. ports.

Availability

Final copies of the VSP Operations Manual—2000 are available in pdf format on the VSP Web site at http://www.cdc.gov/nceh/vsp or by contacting Dorothy Johnson, Program Management Assistant at the Vessel Sanitation Program, National Center for Environmental Health, Centers for Disease Control and Prevention (CDC), Mailstop F-16, 4770 Buford Highway, N.E., Atlanta GA 30341-3274, or by e-mailing her at DJJohnson@cdc.gov. Requests may also be sent to vsp@cdc.gov.

Dated: October 3, 2000.
Thena M. Durham,
Director, Executive Secretariat, Centers for Disease Control and Prevention (CDC).

[FR Doc. 00-25906 Filed 10-6-00; 8:45 am]

BILLING CODE 4163-18-P